DEPARTMENT OF STATE

[Public Notice 4447]

Determination Pursuant to Section 1(b) of Executive Order 13224 Relating to the Mujahedin-e Khalq (MEK)

Acting under the authority of section 1(b) of Executive Order 13224 of September 23, 2001, as amended by Executive Order 13286 of July 2, 2002, and Executive Order 13284 of January 23, 2003, and in consultation with the Secretary of the Treasury, the Attorney General, and the Secretary of Homeland Security, I hereby determine that the MEK uses or has used as aliases the names “National Council of Resistance” (“NCR”), and “National Council of Resistance of Iran” (“NCRI”). I hereby amend the October 31, 2001, designation of the Mujahedin-e Khalq (MEK and other aliases) to add the following names as aliases of MEK:

“National Council of Resistance” (“NCR”) (including its U.S. representative office and all other offices worldwide); and

“National Council of Resistance of Iran” (“NCRI”) (including its U.S. representative office and all other offices worldwide).

I also hereby clarify that the October 31, 2001 designation of the People's Mujahedin Organization of Iran, a.k.a. PMOI, as aliases of the MEK includes its U.S. representative office and all other offices worldwide.

Consistent with the determination in section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States, because to do so would render ineffectual the measures authorized in the Order.

This notice shall be published in the Federal Register.

Dated: August 9, 2003.
Colin L. Powell,
Secretary of State, Department of State.

[FR Doc. 03-20923 Filed 8-13-03; 5 pm]

BILLING CODE 4710-10-P